FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201428.

Agreement Name: ONE/COSCO WIN Slot Charter Agreement.

Parties: COSCO Shipping Lines Co., Ltd.; Ocean Network Express Pte. Ltd .

Filing Party: Joshua Stein; Cozen O'Connor.

Synopsis: The purpose of this Agreement is to authorize ONE to charter space to COSCO in the Trade between India, Pakistan, Sri Lanka, Egypt, the Mediterranean coast of Spain, the United Arab Emirates, and the Red Sea area on the one hand, and the U.S. Gulf and East Coast on the other.

Proposed Effective Date: 04/29/2024.

Location: https://www2.fmc.gov/FMC.Agreements.Web/Public/AgreementHistory/86564.

Agreement No.: 201427.

Agreement Name: Seven Seals Co., Ltd./Hyundai Glovis Space Charter Agreement.

Parties: Hyundai Glovis Co., Ltd.; Seven Seals Co., Ltd.

Filing Party: Wayne Rohde; Cozen O'Connor.

Synopsis: The Agreement authorizes Seven Seals to charter space to Hyundai Glovis in the trade between Japan and the U.S. Pacific Coast.

Proposed Effective Date: 04/29/2024.

Location: https://www2.fmc.gov/FMC.Agreements.Web/Public/AgreementHistory/86563.

Agreement No.: 201103-017.

Agreement Name: Memorandum Agreement of December 14, 1983 Concerning Assessments to Pay ILWU-PMA Employee Benefit Costs.

Parties: International Longshoremen's and Warehousemen's Union; Pacific Maritime Association.

Filing Party: Robert Magovern; Cozen O'Connor.

Synopsis: The amendment revises the divisor for the man-hour base assessment rate in the agreement, and also accordingly revises various figures set forth in Appendix 1.

Proposed Effective Date: 05/02/2024.

Location: https://www2.fmc.gov/FMC.Agreements.Web/Public/AgreementHistory/10164.

Dated: May 3, 2024.
Carl Savoy,
Federal Register Alternate Liaison Officer.

[FR Doc. 2024-10026 Filed 5-7-24; 8:45 am]

BILLING CODE 6730-02-P